DEPARTMENT OF ENERGY

10 CFR Part 590

Rescission of Policy Statement on Export Commencement Deadlines in Authorizations To Export Natural Gas to Non-Free Trade Agreement Countries

| Docket No.
Lake Charles Exports, LLC | 11-59-LNG
Gulf LNG Liquefaction Company, LLC | 12-101-LNG
Golden Pass LNG Terminal LLC | 12-156-LNG
Lake Charles LNG Export Co., LLC | 13-04-LNG
Delfin LNG LLC | 13-147-LNG
Alaska LNG Project LLC | 14-96-LNG
Texas LNG Brownsville LLC | 15-62-LNG
Cameron LNG, LLC | 15-90-LNG
Port Arthur LNG, LLC | 15-96-LNG
Rio Grande LNG, LLC | 15-190-LNG
Lake Charles LNG Export Co., LLC | 16-109-LNG
Lake Charles Exports, LLC | 16-110-LNG
Louisiana LNG Infrastructure LLC | 16-144-LNG
Freeport LNG Expansion, L.P. & FLNG Liquefaction 4, LLC | 18-26-LNG
Mexico Pacific Limited LLC | 18-70-LNG
ECA Liquefaction, S. de R.L. de C.V | 18-144-LNG
Commonwealth LNG, LLC | 19-134-LNG
Energía Costa Azul, S. de R.L. de C.V | 18-145-LNG
Epcilon LNG LLC | 20-31-LNG
Vista Pacifico LNG, S.A.P.I. de C.V | 20-153-LNG
Venture Global CP2 LNG, LLC | 21-131-LNG

AGENCY: Office of Fossil Energy and Carbon Management, Department of Energy.

ACTION: Rescission of policy statement.

SUMMARY: The Department of Energy (DOE) is rescinding the Policy Statement on Export Commencement Deadlines in Authorizations to Export Natural Gas to Non-Free Trade Agreement Countries issued on April 26, 2023 (Policy Statement). Henceforth, DOE will consider applications to extend an authorization holder's export commencement deadline and grant such extensions for good cause shown on a case-by-case basis, an approach consistent with DOE's practice prior to the issuance of the Policy Statement.

DATES: This rescission is applicable on April 2, 2025.

FOR FURTHER INFORMATION CONTACT: Amy Sweeney or Jennifer Wade, U.S. Department of Energy (FE-34), Office of Regulation, Analysis, and Engagement, Office of Fossil Energy and Carbon Management, Forrestal Building, Room 3E-042, 1000 Independence Avenue SW, Washington, DC 20585; (202) 586-2627 or (202) 586-4749; amy.sweeney@hq.doe.gov or jennifer.wade@hq.doe.gov; Irene V. Norville, U.S. Department of Energy (GC-76), Office of the Assistant General Counsel for Energy Delivery and Resilience, Forrestal Building, Room 6D-033, 1000 Independence Avenue SW, Washington, DC 20585; irene.norville@hq.doe.gov.

SUPPLEMENTARY INFORMATION: DOE is responsible for authorizing exports of domestically produced natural gas, including liquefied natural gas (LNG), to foreign countries under section 3 of the Natural Gas Act (NGA).¹ On April 26, 2023, DOE issued a Policy Statement applying to existing and future authorizations for the export of natural gas to countries with which the United States does not have a free trade agreement (FTA) requiring national treatment for trade in natural gas and with which trade is not prohibited by U.S. law or policy (non-FTA countries). Under this Policy Statement, DOE would allow authorizations to expire on the export commencement deadline originally set forth in the authorizing order, and would not consider an application for an extension of the commencement deadline, unless the authorization holder demonstrated both that (1) it has physically commenced construction on the associated export facility and (2) its inability to comply with the existing export commencement deadline is the result of extenuating circumstances outside of its control.² In the Policy Statement, DOE stated that an authorization holder unable to make this demonstration, and failing to meet its commencement deadline, would be required to submit a new non-FTA application, which would be considered without prejudice.³

¹ 15 U.S.C. 717b. The Secretary's authority was established by the Department of Energy Organization Act, 42 U.S.C. 7151(b), which transferred jurisdiction over import and export authorizations from the Federal Power Commission to the Secretary of Energy; see also 42 U.S.C. 7172(f). The authority to regulate the imports and exports of natural gas, including LNG, under NGA section 3 has been delegated to the Assistant Secretary for Fossil Energy and Carbon Management (FECM) in Redelegation Order No. S4-DEL-FE1-2023, issued on April 10, 2023.

² 88 FR 25272 (Apr. 26, 2023).

³ See id. at 88 FR 25278.

Based on a review, DOE has concluded that the Policy Statement does not align with policies set forth in Executive Order 14154 of January 20, 2025, Unleashing American Energy,⁴ which directs agencies to review and suspend, revise, or rescind actions that unduly burden the development of domestic energy resources, with particular attention to natural gas, among other resources.⁵ Specifically, DOE has determined that the Policy Statement poses an undue burden by placing strict criteria on natural gas export authorization holders seeking extensions to their commencement deadlines and demanding significant time and resources from authorization holders that would be required to submit new non-FTA applications if unable to meet the criteria under the Policy Statement.

⁴ 90 FR 8353 (Jan. 29, 2025).

⁵ Id. at 90 FR 8354 (Sec. 3). Section 8(a) of the Executive order also directs the Secretary of Energy to restart reviews of applications for approvals of liquified natural gas export projects as expeditiously as possible, consistent with applicable law. Id. at 90 FR 8357.

Therefore, DOE is rescinding the Policy Statement, effective April 2, 2025. Going forward, DOE will consider applications to extend an authorization holder's export commencement deadline and grant such extensions for good cause shown on a case-by-case basis consistent with DOE's practice prior to the issuance of the Policy Statement. An authorization holder seeking to apply for an extension of the commencement deadline should submit its application to DOE at least 90 days prior to the export commencement deadline in its non-FTA order.⁶

⁶ 10 CFR 590.201(b) (“Applications shall be filed at least ninety (90) days in advance of the proposed import or export or other requested action, unless a later date is permitted for good cause shown.”).

Signing Authority

This document of the Department of Energy was signed on March 27, 2025, by Talat Goudarzi, Principal Deputy Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 28, 2025.
Treena V. Garrett,
Federal Register Liaison Officer, U.S. Department of Energy.

[FR Doc. 2025-05592 Filed 4-1-25; 8:45 am]

BILLING CODE 6450-01-P